DEPARTMENT OF HEALTH AND HUMAN SERVICES

Centers for Disease Control and Prevention

[60Day-20-0910; Docket No. CDC-2020-0018]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed revision of the existing information collection generic clearance titled Message Testing for Tobacco Communication Activities (MTTCA). CDC's Office on Smoking and Health has used the MTTCA clearance to support the development and testing of tobacco-related health messages, including messages supporting CDC's National Tobacco Education Campaign (NTEC) called the Tips from Former Smokers® campaign.

DATES: CDC must receive written comments on or before April 27, 2020.

ADDRESSES: You may submit comments, identified by Docket No. CDC-2020-0018 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Message Testing for Tobacco Communication Activities (MTTCA)(OMB Control No. 0920-0910, expires 05/31/2021)—Revision—National Center for Chronic Disease Prevention and Health Promotion (NCCDPHP), Centers for Disease Control and Prevention (CDC).

Background and Brief Description

In 2012, CDC's Office on Smoking and Health obtained OMB approval of a generic clearance to support the development and testing of tobacco-related health messages, including messages disseminated through multiple phases of a media campaign (Message Testing for Tobacco Communication Activities (MTTCA), OMB No. 0920-0910, exp. 1/31/2015). In 2015, OSH obtained approval for a modification to the MTTCA clearance that granted a three-year extension and an increase in respondents and burden hours (MTTCA, OMB No. 0920-0910, exp. 3/31/2018). This MTTCA clearance was approved with 44,216 annualized responses and 10,998 annualized burden hours. In 2018, OSH obtained approval for an extension to the MTTCA clearance that increased the annualized number of respondents to 46,108 and decreased the annualized burden hours to 7,070 (MTTCA, OMB No. 0920-0910, exp. 5/31/2021). CDC's authority to collect information for public health purposes is provided by the Public Health Service Act (41 U.S.C. 241) Section 301.

CDC has employed the MTTCA clearance to collect information about adult smokers' and nonsmokers' attitudes and perceptions, and to pretest draft messages and materials for clarity, salience, appeal, and persuasiveness. The MTTCA clearance has been used to obtain OMB approval for a variety of message testing activities, with particular emphasis on communications supporting CDC's National Tobacco Education Campaign (NTEC) called the Tips from Former Smokers® campaign. This national campaign is designed to increase public awareness of the health consequences of tobacco use and exposure to secondhand smoke. The MTTCA clearance has also supported formative research relating to the development of health messages that are not specifically associated with the national campaign.

Information collection modes under the MTTCA clearance that are supported include in-depth interviews; in-person focus groups; online focus groups; in-person, or telephone interviews; and online surveys. Each project approved under the MTTCA framework is outlined in a project-specific Information Collection Request that describes its purpose and methodology. Messages developed from MTTCA data collection have been disseminated via multiple media channels including television, radio, print, out-of-home, and digital formats.

CDC requests OMB approval to extend the MTTCA clearance, with changes, for three years. Requested changes are to increase the number of respondents and burden hours, and to expand testing of messages on non-combustible products to include heated tobacco products. These changes are needed to support CDC's planned information collections and to accommodate additional needs that CDC may identify during the next three years. No modification is requested for information collection activities, methodology, or populations of interest from the existing generic clearance. The extension and requested changes are needed to support CDC's planned information collections and to accommodate additional needs that CDC may identify during the next three years. For example, the MTTCA generic clearance may be used to facilitate the development of tobacco-related health communications of interest for CDC's collaborative efforts with other federal partners including, but not limited to, the Food and Drug Administration's Center for Tobacco Products. The MTTCA clearance should not replace the need for additional generic clearance mechanisms of HHS and other federal partners that may need to test tobacco messages related to their campaigns and initiatives.

The existing MTTCA clearance was granted approval for a total of 138,324 respondents and 21,210 burden hours over a three-year period (annualized number of respondents of 46,108 and annualized burden hours of 7,070). To date, there have been 69,529 respondents and 10,489 burden hours used in this clearance, leaving a balance of 68,795 respondents and 10,721 burden hours (annualized number of respondents of 22,932 and annualized burden hours of 3,754 for each of the three years in the requested extension). The MTTCA extension would provide approval for an annualized number of respondents of 83,215 and annualized burden hours of 11,255. CDC will continue to use the MTTCA clearance to develop and test messages and materials. Participation is voluntary and there are no costs to respondents, other than their time.

Estimated Annualized Burden Hours
Type of respondents | Form name | Number of respondents | Number of responses per respondent | Average burden per response (in hours) | Total burden (in hours)
General Public and Special Populations | Screening In-Depth Interviews (In Person) | 37,640 67 | 1 1 | 2/60 1 | 1,255 67
| Focus Groups (In Person) | 288 | 1 | 1.5 | 432
| Surveys (Online, Short) | 40,987 | 1 | 10/60 | 6,832
| Surveys (Online, Medium) | 2,733 | 1 | 25/60 | 1,139
| Surveys (In-Depth Telephone and Online) | 1,500 | 1 | 1 | 1,500
Total |  | 83,215 |  |  | 11,225

Jeffrey M. Zirger,
Lead, Information Collection Review Office, Office of Scientific Integrity, Office of Science, Centers for Disease Control and Prevention.

[FR Doc. 2020-03654 Filed 2-24-20; 8:45 am]

BILLING CODE 4163-18-P